DEPARTMENT OF TRANSPORTATION

National Highway Traffic Safety Administration

[Docket No. NHTSA-2024-0019; Notice 1]

Tesla, Inc., Receipt of Petition for Decision of Inconsequential Noncompliance

AGENCY: National Highway Traffic Safety Administration (NHTSA), Department of Transportation (DOT).

ACTION: Receipt of petition.

SUMMARY: Tesla, Inc. (Tesla) has determined that certain model year (MY) 2017-2023 Tesla Model and Tesla Model Y motor vehicles do not fully comply with Federal Motor Vehicle Safety Standard (FMVSS) No. 108, Lamps, Reflective Devices, And Associated Equipment. Tesla filed a noncompliance report dated March 15, 2024, and subsequently petitioned NHTSA (the “Agency”) on April 8, 2024, and amended its petition on May 3, 2024, for a decision that the subject noncompliance is inconsequential as it relates to motor vehicle safety. This document announces receipt of Tesla's petition.

DATES: Send comments on or before August 26, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Leroy Angeles, General Engineer, NHTSA, Office of Vehicle Safety Compliance, (202) 366-5304.

SUPPLEMENTARY INFORMATION:

I. Overview: Tesla determined that certain MY 2017-2023 Tesla Model 3 and MY 2020-2023 Tesla Model Y do not fully comply with paragraph S10.14.6 of FMVSS No. 108, Lamps, Reflective Devices, And Associated Equipment (49 CFR 571.108).

Tesla filed a noncompliance report dated March 15, 2024, pursuant to 49 CFR part 573, Defect and Noncompliance Responsibility and Reports. Tesla petitioned NHTSA on April 9, 2024, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of Tesla's petition is published under 49 U.S.C. 30118 and 30120 and does not represent any agency decision or another exercise of judgment concerning the merits of the petition.

II. Vehicles Involved: Approximately 19,917 MY 2017-2023 Tesla Model 3 and MY 2020-2023 Tesla Model Y motor vehicles, manufactured between October 27, 2017, and December 24, 2023, were reported by the manufacturer.

III. Rule Requirements: Paragraph S10.14.6 of FMVSS No. 108 includes the requirements relevant to this petition. Specifically, when tested according to the test procedure provided by paragraph S14.2.5 of FMVSS No. 108, each integral beam headlamp must be designed to conform to the photometry requirements of Table XIX of FMVSS No. 108 for lower beam, as specified in Table II-c for the specific headlamp unit and aiming method. As it relates to this petition, the maximum photometric intensity in the 10°U to 90°U zone for the lower beam is 125 cd.

IV. Noncompliance: Tesla explains that the subject vehicles are equipped with headlamps that have a low-beam output that exceeds the maximum photometric intensity stated in paragraph S10.14.6 of FMVSS No. 108. Specifically, the affected right and left-hand headlamp lower beams may measure as much as 230.1 candela (cd) in the 10°U to 90°U zone, which exceeds the maximum photometric intensity allowed by 105.1 cd.

V. Summary of Tesla's Petition: The following views and arguments presented in this section, “V. Summary of Tesla's Petition,” are the views and arguments provided by Tesla. They have not been evaluated by the Agency and do not reflect the views of the Agency. Tesla describes the subject noncompliance and contends that the noncompliance is inconsequential as it relates to motor vehicle safety.

Tesla's headlamp supplier, Marelli Automotive Lighting, tested 25 right-hand and 25 left-hand lamps, and for this sample, found the maximum photometric intensity measured at the 10°U to 90°U zone was between 136.2 cd and 230.1 cd for the right-hand lamps and between 117.5 cd and 160.3 cd for the left-hand lamps. According to Tesla, these tests revealed that the photometric intensity of the right-hand and left-hand headlamp lower beam on the subject vehicles may measure as much as 230.1 cd in the 10°U to 90°U zone, exceeding the maximum photometric intensity by 105.1 cd. Additionally, a left-hand lamp tested by a Transport Canada recognized laboratory measured a maximum of 171.27 cd in the 10°U to 90°U zone. Despite these measurements exceeding the photometric maximum, Tesla believes that the subject noncompliance is inconsequential to motor vehicle safety.

Tesla argues that the noncompliant illuminated area of the subject headlamp in the 10°U to 90°U zone is positioned off the roadway both horizontally and vertically, keeping it outside of the driver's and other road users' natural line of vision. Therefore, Tesla believes there is no increased risk of glare for surrounding traffic or the driver of the subject vehicle in any driving conditions.

Tesla's petition provides a plan view, side and orthogonal view (Figure 1) of the emitted light exceeding 125 cd overlaid onto the 10°U to 90°U zone. For a left-hand headlamp, the affected area is in the 30° inboard and 20° upward zone, and this is symmetrical for the right-hand headlamp.

Figure 2 in Tesla's petition shows the subject noncompliance from the view of the driver of the subject vehicle. Tesla explains that it simulated the illumination of the noncompliant 10°U to 90°U zone to demonstrate how the subject noncompliance affects the roadway. The simulation in Figure 2 shows that the left-hand headlamp exceeds the 125 cd maximum by 35.3 cd (totaling 160.3 cd), while the right-hand headlamp exceeds it by 105.1 cd (totaling 230.1 cd). Tesla explains that these figures represent the largest measurements from the 25 sets of headlamps tested by Marelli Automotive Lighting.

Tesla asserts that the area illuminated by the noncompliant headlamps in the 10°U to 90°U zone does not affect the driver of the subject vehicle because its high and outboard position falls outside the driver's line of vision. Furthermore, Tesla believes that this illuminated area does not impact the field of vision of oncoming drivers or other road users due to its extreme location. The light from the subject headlamp in this zone is projected off and above the roadway. Therefore, Tesla argues that subject noncompliance is inconsequential as it relates to motor vehicle safety.

On May 3, 2024, Tesla amended its petition to provide details of the low beam testing they conducted. Using the Adaptive Driving Beam (ADB) protocol test method provided in FMVSS No. 108, S14.9.3.12, Tesla conducted low beam tests on a proving ground. Tesla explains that the study aimed to characterize and quantify the low beam glare in the 10°U to 90°U zone on the subject vehicles compared to the same vehicles equipped with compliant headlamps.

The test involved one Model 3 and one Model Y vehicle, each equipped with the noncompliant left-hand and right-hand headlamps that exceeded the FMVSS No. 108 maximum permissible candela in the 10°U to 90°U zone. Tesla followed the test procedure described in Scenario #1 of FMVSS No. 108, Table XXII, at 60 mph and opposite direction.

Tesla argues that meeting the low beam maximum illuminance permitted by FMVSS No. 108, despite having noncompliant headlamps, makes the noncompliance at issue inconsequential to motor vehicle safety. This, according to Tesla, ensures that drivers of vehicles equipped with the subject headlamps and other road users would not experience glare or distraction from them.

Tesla, in their amended petition, says that the subject vehicles did not exceed the permitted maximum illuminance values required by FMVSS No. 108, Table XXI. Tesla believes that these test results demonstrate that the subject noncompliance does not create glare for the driver of the subject vehicle or other road users. Therefore, Tesla contends that the noncompliance is inconsequential as it relates to motor vehicle safety.

Tesla adds that they are not aware of any complaints, accidents, or injuries related to the subject noncompliance.

Tesla has not found any complaints or reports of accidents or injuries related to this noncompliance in its records or NHTSA Vehicle Owner Questionnaires. While Tesla acknowledges that this fact is not dispositive in the consideration of a petition for inconsequential noncompliance, it mentions this to illustrate that customers have not reported issues such as excessively bright or glare, and no accidents or injuries have been attributed to the subject headlamps.¹

¹ See North American Subaru, Inc., Denial of Petition for Decision of Inconsequential Noncompliance; 87 FR 48764, August 10, 2022.

Tesla references a 2022 denial of a petition submitted by General Motors, LLC, (GM) in which Tesla says GM argued that certain noncompliant lower beam headlamps exceeding the photometry requirements of S10.15.6 and Table XIX of FMVSS No. 108 were inconsequential to motor vehicles safety.² Tesla explains that GM could not demonstrate that the noncompliant headlamps, which measured 450-470 cd and exceeded the photometric requirement by more than three times, did not cause glare or were not distracting to other road users. (Id.) Tesla believes that the subject noncompliance is distinguishable from GM's petition because the subject headlamps measure 230.1 cd at most. Tesla also uses the ADB testing it conducted to distinguish its petition from the GM petition by demonstrating that it believes the subject noncompliance does not create glare for the driver and other road users.

² See General Motors, LLC, Denial of Petition for Decision of Inconsequential Noncompliance; 87 FR 12546, March 4, 2022.

Tesla concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Tesla no longer controlled at the time it determined that the noncompliance existed. However, any decision on this petition does not relieve vehicle distributors and dealers of the prohibitions on the sale, offer for sale, or introduction or delivery for introduction into interstate commerce of the noncompliant vehicles under their control after Tesla notified them that the subject noncompliance existed.

(Authority: 49 U.S.C. 30118, 30120: delegations of authority at 49 CFR 1.95 and 501.8)

Otto G. Matheke, III,
Director, Office of Vehicle Safety Compliance.

[FR Doc. 2024-16481 Filed 7-25-24; 8:45 am]

BILLING CODE 4910-59-P